ENVIRONMENTAL PROTECTION AGENCY

[FRL-6534-4]

Request for Qualifications and Preliminary Proposals for Communications, Outreach and Education

The U.S. Environmental Protection Agency (EPA) is issuing a request for qualifications and preliminary proposals for organizations interested in assisting the Chesapeake Bay Program in its effort to provide the communications, outreach and education components of the Bay Program partnership. Applicants must be a non-profit organization, interstate agency, college or university institution. The organization must have conducted work within the Chesapeake Bay watershed. Note, this is a request for proposals for the benefit of the Chesapeake Bay Program partnership and not for direct benefit to EPA. Funding will be provided to an organization under the authority of the Clean Water Act, Section 117(a) and (b).

An original and 5 copies of proposals must be received by the US EPA, Chesapeake Bay Program by close of business March 3, 2000. The RFP is available at the following web-site: http://www.epa.gov/r3chespk/ You may also request a copy by calling Robert Shewack at 410-267-9856 or by E-mail at: shewack.robert@epa.gov. All proposals must be received by EPA by close of business March 3, 2000. Any late, incomplete or fax proposals will not be considered.

William Matuszeski,
Director, Chesapeake Bay Program.

[FR Doc. 00-2826 Filed 2-8-00; 8:45 am]

BILLING CODE 6560-50-M